DEPARTMENT OF COMMERCE

National Oceanic and Atmospheric Administration

[RTID 0648-XC501]

North Pacific Fishery Management Council; Public Meeting

AGENCY: National Marine Fisheries Service (NMFS), National Oceanic and Atmospheric Administration (NOAA), Commerce.

ACTION: Notice of a hybrid meeting.

SUMMARY: The North Pacific Fishery Management Council (Council) Groundfish Plan Teams will meet November 14, 2022, through November 18, 2022.

DATES: The meetings will be held on Monday, November 14, 2022 through Friday, November 18, 2022, from 9 a.m. to 5 p.m., PDT.

ADDRESSES:

Meeting address: The meetings will be a hybrid meeting. The in-person component of the meeting will be held at the Alaska Fishery Science Center in the Traynor Room (2076) and Room 2039, 7600 Sand Point Way NE, Building 4, Seattle, WA 98115, or join the meeting online through the links at https://meetings.npfmc.org/Meeting/Details/2961.

Council address: North Pacific Fishery Management Council, 1007 W 3rd Ave., Anchorage, AK 99501-2252; telephone: (907) 271-2809. Instructions for attending the meeting are given under SUPPLEMENTARY INFORMATION, below.

FOR FURTHER INFORMATION CONTACT: Sara Cleaver, Council staff; email: sara.cleaver@noaa.gov or Diana Stram, Council staff; email diana.stram@noaa.gov; telephone: (907) 271-2809.

For technical support, please contact our administrative staff; email: npfmc.admin@noaa.gov.

SUPPLEMENTARY INFORMATION:

Agenda

Monday, November 14, 2022, Through Friday, November 18, 2022

The Bering Sea and Aleutian Islands (BSAI) and Gulf of Alaska (GOA) Groundfish Plan Teams will compile and review the annual BSAI and GOA Groundfish Stock Assessment and Fishery Evaluation (SAFE) reports, and recommend final groundfish Over Fishing Limit (OFL) and Allowable Biological Catches (ABCs) for 2023/24. The Plan Teams will also review the Economic Report and the Ecosystem Status Reports. The agenda is subject to change, and the latest version will be posted at https://meetings.npfmc.org/Meeting/Details/2961 prior to the meeting, along with meeting materials.

Connection Information

You can attend the meeting online using a computer, tablet, or smartphone; or by phone only. Connection information will be posted online at: https://meetings.npfmc.org/Meeting/Details/2961.

Public Comment

Public comment letters should be submitted electronically via the electronic agenda at https://meetings.npfmc.org/Meeting/Details/2961.

Authority: 16 U.S.C. 1801 et seq.

Dated: October 25, 2022.
Rey Israel Marquez,
Acting Deputy Director, Office of Sustainable Fisheries, National Marine Fisheries Service.

[FR Doc. 2022-23551 Filed 10-27-22; 8:45 am]

BILLING CODE 3510-22-P